DEPARTMENT OF ENERGY

Notice of Request for Information (RFI) on Marine and Hydrokinetic (MHK) Metrics in the U.S. for System and Subsystem Performance

AGENCY: Office of Energy Efficiency and Renewable Energy, Department of Energy (DOE).

ACTION: Request for Information (RFI).

SUMMARY: The U.S. Department of Energy (DOE) invites public comment on its Request for Information (RFI) on Marine and Hydrokinetic (MHK) metrics in the U.S. for system and subsystem performance. The Office of Energy Efficiency and Renewable Energy (EERE) is specifically interested in feedback on (1) the performance metrics identified within the document titled “Existing Ocean Energy Performance Metrics” relating to performance in the U.S. marine resource, as well as any additional applications, assumptions, benefits, drawbacks, or other considerations for those metrics, (2) any performance metrics not captured within the “Existing Ocean Energy Performance Metrics” documents, (3) considerations for baseline reference values documenting the current state of the U.S. MHK industry identified by metric and resource type, and (4) feedback specifically on Technology Readiness Level (TRL) definitions as referenced in the document and as those TRL definitions relate to the U.S. MHK industry.

DATES: Responses to the RFI must be received no later than 5:00 p.m. (ET) on July 31, 2018.

ADDRESSES: Interested parties are to submit comments electronically to WPTORFI@ee.doe.gov. Responses must be provided as attachments to an email. Include “MHK Metrics RFI” as the subject of the email. It is recommended that attachments with file sizes exceeding 25MB be compressed (i.e., zipped) to ensure message delivery. Responses must be provided as a Microsoft Word (.docx) attachment to the email, and no more than 10 pages in length, 12 point font, 1 inch margins. Only electronic responses will be accepted. The complete RFI document is located at: https://eere-exchange.energy.gov.

FOR FURTHER INFORMATION CONTACT: Questions may be addressed to WPTORFI@ee.doe.gov. Further instruction can be found in the RFI document posted on EERE Exchange.

SUPPLEMENTARY INFORMATION: The purpose of this RFI is to solicit feedback from industry, academia, research institutions, government agencies, and other stakeholders on assumptions and uncertainties with metrics in the U.S. that are used to evaluate MHK system and subsystem performance. In addition to levelized cost of energy, various other metrics, as documented in “Existing Ocean Energy Performance Metrics” (collocated with this RFI on EERE Exchange, https://eere-Exchange.energy.gov/), have historically been utilized to evaluate and track progress within the MHK industry. EERE is specifically interested in feedback on the application and limitations of those metrics that are currently used or have been used previously, and is also soliciting suggestions for new metrics or new applications of existing metrics. Feedback is requested on the content within the document titled “Existing Ocean Energy Performance Metrics”, including possible gaps, additional limitations, or further considerations. The results of this RFI may be used to inform the Water Power Technologies Office strategic planning in future years, contribute to evaluation criteria for potential future funding opportunities, and provide a baseline for U.S. input into international efforts related to Marine Renewable Energy metrics.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Issued in Washington, DC, on May 21, 2018.
Alejandro Moreno,
Director, Water Power Technologies Office.

[FR Doc. 2018-11941 Filed 6-1-18; 8:45 am]

BILLING CODE 6450-01-P